NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 26, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, National Oceanic and Atmospheric Administration (N1-370-03-10, 65 items, 64 temporary items). Records of the National Environmental Satellite, Data, and Information Services, including files relating to such matters as the management of electronic information systems, commercial remote sensing licensing, satellite anomalies, satellite telemetry and trending data, scientific research and development software, and the radio frequency management program. Also included are the data files and records related to earth-based and remotely sensed environmental systems, the records associated with and contained within the customer order processing information system, station metadata information, routine project files and related working files created from the data in environmental systems, and electronic copies of records created using electronic mail and word processing. Proposed for permanent retention (exclusive of supporting materials) are the recordkeeping copies of those paper and electronic products created as a result of non-routine and special requests.

2. Department of Defense, National Geospatial-Intelligence Agency (N1-537-03-2, 38 items, 32 temporary items). General geospatial program files, source data files, work assignment files, quality assurance files, and user surveys. Also included are electronic copies of documents created using word processing and electronic mail. Proposed for permanent retention are recordkeeping copies of records relating to such matters as studies, requirements, plans, and conferences as well as geospatial publications and products. This schedule authorizes the agency to apply the proposed disposition instructions to any recordkeeping medium.

3. Department of Defense, National Geospatial-Intelligence Agency (N1-537-03-6, 9 items, 7 temporary items). Geospatial collection and acquisition files maintained separately from offices assigned functional responsibility. Also included are electronic copies of documents created using word processing and electronic mail. Proposed for permanent retention are recordkeeping copies of geospatial collection and acquisition files maintained by the offices assigned functional responsibility. This schedule authorizes the agency to apply the proposed disposition instructions to any recordkeeping medium.

4. Department of Homeland Security, Transportation Security Administration (N1-560-03-11, 7 items, 6 temporary items). Correspondence and training materials accumulated by the Office of Civil Rights. Also included are electronic copies of records created using electronic mail and word processing. Proposed for permanent retention are recordkeeping copies of files documenting the agency's interactions with the public regarding development of its civil rights policy.

5. Department of Homeland Security, Transportation Security Administration (N1-560-04-2, 16 items, 14 temporary items). Records relating to strategic planning, including working papers, chronological files, correspondence, automation project files, and strategic planning development files. Also included are electronic copies of records created using electronic mail and word processing. Proposed for permanent retention are recordkeeping copies of all published studies, papers, strategic plans, annual operating plans, assessment reports, organizational studies and charts, and implementation plans.

6. Department of Labor, Office of the Secretary (N1-174-03-1, 12 items, 8 temporary items). Records of the Office of Small Business Programs, including such records as publication background files, copies of speeches, news releases, and directives that are maintained elsewhere in the agency, records relating to support provided tribal and minority educational institutions of higher learning, and records relating to the Small Business Regulatory Enforcement Fairness Act of 1996. Also included are electronic copies of documents created using electronic mail and word processing. Proposed for permanent retention are recordkeeping copies of such files as unique program publications, annual reports submitted to the Small Business Administration, and Federal Advisory Committee Act files.

7. Department of Transportation, Federal Aviation Administration (N1-237-03-1, 5 items, 5 temporary items). Docket files relating to legal complaints of unfair treatment brought against Federally-assisted airports by their tenants. Included are complaints, replies, discovery requests, exhibits, transcripts, court orders, and decisions. Also included are electronic copies of records created using electronic mail and word processing. The agency will notify NARA of any docket files that may warrant permanent retention and they will be appraised on a case-by-case basis. This schedule also authorizes the agency to apply the proposed disposition instructions to any recordkeeping medium.

8. Department of Transportation, Federal Highway Administration (N1-406-04-1, 4 items, 3 temporary items). Internal notices transmitting one-time or short-term instructions or information relating to agency policies and procedures. Also included are electronic copies of records created using electronic mail and word processing. Proposed for permanent retention are recordkeeping copies of the notices.

9. Department of the Treasury, Internal Revenue Service (N1-58-04-2, 2 items, 2 temporary items). U.S. gift tax returns (IRS Tax Forms 709) that cannot be associated with estate tax returns (IRS Tax Forms 706).

10. Department of the Treasury, Bureau of Engraving and Printing (N1-318-04-17, 5 items, 2 temporary items). Electronic copies of records created using electronic mail and word processing that relate to building construction and renovation and special studies relating to initiatives and projects, such as currency design, electronic currency, and currency designed for the visually impaired. Recordkeeping copies of these files are proposed for permanent retention.

11. Department of the Treasury, Bureau of Engraving and Printing (N1-318-04-23, 12 items, 9 temporary items). Correspondence, working files, memorandums, reports, and studies accumulated by the Director and other high level officials concerning matters that are not related to the agency's primary mission and its policies, programs, and organizational structure. Also included are electronic copies of records created using electronic mail and word processing. Proposed for permanent retention are recordkeeping copies of substantive policy, program, and organizational records of the Director and other high level officials.

12. Panama Canal Commission, Office of Transition Administration (N1-185-04-1, 10 items, 4 temporary items). Maps drawn on paper, cardboard, and polyester at various scales detailing the topography of the Panama Canal. Records include such information as spot elevations and contour lines and the location of structures, roads, utilities, wells, and survey monuments. Also included are maps drawn on paper and linen detailing periodic surveys of Canal hydrography. Proposed for permanent retention are obsolete maps at various scales that are no longer essential to ongoing operations.

13. Social Security Administration, Office of Facilities Management (N1-47-04-1, 1 item, 1 temporary item). Surveillance recordings of agency facilities. This schedule decreases the retention period of these records, which are approved for disposal in the General Records Schedules.

Dated: February 27, 2004.
Michael J. Kurtz,
Assistant Archivist for Record Services—Washington, DC.

[FR Doc. 04-4960 Filed 3-9-04; 8:45 am]

BILLING CODE 7515-01-P